FEDERAL COMMUNICATIONS COMMISSION

[CC Docket No. 96-45; DA 01-1647]

The Federal-State Joint Board on Universal Service

AGENCY: Federal Communications Commission.

ACTION: Notice; comments requested.

SUMMARY: In this document, the Commission invites interested parties to update the record pertaining to petitions for reconsideration filed with respect to the rules the Commission adopted in the Universal Service First Report and Order.

DATES: Comments are due on or before August 20, 2001. Reply comments are due on or before September 4, 2001.

ADDRESSES: See Supplementary Information section for where and how to file comments.

FOR FURTHER INFORMATION CONTACT: Sheryl Todd, Management Analyst, or Richard Smith, Attorney, Common Carrier Bureau, Accounting Policy Division, (202) 418-7400, TTY: (202) 418-0484.

SUPPLEMENTARY INFORMATION: On May 8, 1997, the Commission released the Universal Service First Report and Order, 62 FR 32862, May 8, 1997, as required by the 1996 Telecommunications Act. Many parties filed petitions for reconsideration of that order. Since then, there has been substantial litigation concerning many of the rules adopted in the Universal Service First Report and Order. As a result, many of the issues raised in the petitions for reconsideration may no longer remain in dispute.

The Commission has refrained from considering many of the petitions for reconsideration of the rules adopted in the Universal Service First Report and Order until most of the litigated issues were resolved. Now that issues in dispute have narrowed, the Commission will proceed to address petitions for reconsideration relating to rules that are not the subject of pending litigation.

Because these petitions were filed several years ago, the passage of time and intervening developments may have rendered the records developed by those petitions stale. For example, in addition to the litigation mentioned, the Commission has issued several orders on reconsideration of the Universal Service First Report and Order. Moreover, some issues raised in petitions for reconsideration may have become moot or irrelevant in light of intervening events.

For these reasons, the Bureau requests that parties that filed petitions for reconsideration of the Universal Service First Report and Order in 1997 now file a supplemental notice indicating which of such issues they still wish to be reconsidered. In addition, parties may refresh the record with any new information or arguments they believe to be relevant to deciding such issues. To the extent parties do not indicate an intent to pursue their respective petitions for reconsideration, the Commission will deem such petitions withdrawn and they will be dismissed. The refreshed record will enable the Commission to undertake appropriate reconsideration of its universal service rules.

Pursuant to §§ 1.415 an 1.419 of the Commission's rules, interested parties may file comments as follows: Comments are due August 20, 2001, and reply comments are due September 4, 2001. Comments may be filed using the Commission's Electronic Comment Filing System (ECFS) or by filing paper copies. See Electronic filing of Documents in Rulemaking Proceedings, 63 FR 24121, May 1, 1998. Comments filed through the ECFS can be sent as an electronic file via the Internet to http://www.fcc.gov/e-file/ecfs.html. Generally, only one copy of the electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of message, “get form <your e-mail address>.” A sample form and directions will be sent in reply. Parties who choose to file by paper must file an original and four copies of each filing. All filings must be sent to the Commission's Secretary, Magalie Roman Salas, Office of the Secretary, Federal Communications Commission, 445 12 Street, SW., Washington, DC 20554.

Parties also must send three paper copies of their filing to Sheryl Todd, Accounting Policy Division, Common Carrier Bureau, Federal Communications Commission, 445 Twelfth Street SW., Room 5-A422, Washington, DC 20554. In addition, commenters must send diskette copies to the Commission's copy contractor, International Transcription Service, Inc. 1231 20th Street, NW., Washington, DC 20037.

Pursuant to § 1.1206 of the Commission's Rules, this proceeding will continue to be conducted as a permit-but-disclose proceeding in which ex-parte communications are permitted subject to disclosure.

Federal Communications Commission.
Katherine L. Schroder,
Division Chief, Accounting Policy Division.

[FR Doc. 01-18159 Filed 7-19-01; 8:45 am]

BILLING CODE 6712-01-P